DELAWARE RIVER BASIN COMMISSION

Notice of Commission Meeting and Public Hearing

Notice is hereby given that the Delaware River Basin Commission will hold an informal conference followed by a public hearing on Thursday, December 8, 2011. The hearing will be part of the Commission's regularly scheduled business meeting. The conference session and business meeting both are open to the public and will be held at the West Trenton Volunteer Fire Company, located at 40 West Upper Ferry Road, West Trenton, New Jersey.

The morning conference session will begin at 10:30 a.m. and will consist of presentations: (a) By A. Scott Andres, P.G. of the Delaware Geological Survey on the Groundwater Availability Report undertaken by the Delaware Water Supply Coordinating Council; (b) by Dr. Thomas J. Fikslin of the DRBC on an overview of DRBC's monitoring programs; and (c) by David Sayers of the DRBC staff on implementation of the Commission's Water Loss Accountability rule, which will go into effect in calendar year 2012.

Items for Public Hearing. The subjects of the public hearing to be held during the 1:30 p.m. business meeting on December 8, 2011 include draft dockets for which the names and brief descriptions will be posted on the Commission's Web site at drbc.net at least 10 days prior to the meeting date. Draft dockets also will be posted on the Web site ten days prior to the meeting date. Additional public records relating to the dockets may be examined at the Commission's offices. Please contact William Muszynski at (609) 883-9500, extension 221, with any docket-related questions.

In addition to the hearings on draft dockets, public hearings also will be held during the 1:30 p.m. business meeting on: (a) A proposed resolution authorizing the Executive Director to issue a request for proposal and enter into an agreement with the winning firm (or firms) to conduct surface water sampling at natural gas well pad sites; (b) a proposed resolution to adopt the Delaware River Basin Commission fiscal year 2013 operating budget; and (c) a show cause hearing concerning notices of violation, provided that settlements with the alleged violators are not reached prior to the December meeting date.

Other Agenda Items. Other agenda items will consist of the standard business meeting items: Adoption of the Minutes of the Commission's September 21, 2011 business meeting, announcements of upcoming meetings and events, a report on hydrologic conditions, reports by the Executive Director and the Commission's General Counsel, public hearings and a public dialogue session.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at (609) 883-9500 ext. 224. Written comment on items scheduled for hearing may be submitted in advance of the meeting date to: Commission Secretary, P.O. Box 7360, 25 State Police Drive, West Trenton, NJ 08628; by fax to Commission Secretary, DRBC at (609) 883-9522 or by email to paula.schmitt@drbc.state.nj.us. Written comment on dockets should also be furnished directly to the Project Review Section at the above address or fax number or by email to william.muszynski@drbc.state.nj.us.

Individuals in need of an accommodation as provided for in the Americans with Disabilities Act who wish to attend the informational meeting, conference session or hearings should contact the Commission Secretary directly at (609) 883-9500 ext. 203 or through the Telecommunications Relay Services (TRS) at 711, to discuss how we can accommodate your needs.

Agenda Updates. Note that conference items are subject to change and items scheduled for hearing are occasionally postponed to allow more time for the Commission to consider them. Please check the Commission's Web site, drbc.net, closer to the meeting date for changes that may be made after the deadline for filing this notice.

Dated: November 14, 2011.
Pamela M. Bush,
Commission Secretary.

[FR Doc. 2011-29819 Filed 11-17-11; 8:45 am]

BILLING CODE 6360-01-P